INTERNATIONAL TRADE COMMISSION

[Investigation Nos. 731-TA-1360-1361 (Final)]

Tool Chests and Cabinets From China and Vietnam; Supplemental Schedule for the Subject Investigations

AGENCY: United States International Trade Commission.

ACTION: Notice.

DATES: April 13, 2018.

FOR FURTHER INFORMATION CONTACT: Abu B. Kanu (202-205-2597), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 15, 2017, the Commission established a general schedule for the conduct of the final phase of its investigations on tool chests and cabinets,¹ following preliminary determinations by the U.S. Department of Commerce (“Commerce”) that imports of the subject tool chests and cabinets were subsidized by the governments of China and Vietnam. To date, Commerce has issued final affirmative determinations with respect to the subject tool chests from China ² and Vietnam.³ The Commission, therefore, is issuing a supplemental schedule for its investigations on imports of tool chests and cabinets from China and Vietnam.

¹ Tool Chests and Cabinets from China and Vietnam; Scheduling of the Final Phase of Countervailing Duty and Antidumping Duty Investigations, 82 FR 44657, September 25, 2017.

² Certain Tool Chests and Cabinets China: Final Affirmative Determination of Sales at Less Than Fair Value, 83 FR 15365, April 10, 2018.

³ Certain Tool Chests and Cabinets Vietnam: Final Affirmative Determination of Sales at Less Than Fair Value, 83 FR 15361, April 10, 2018.

The Commission's supplemental schedule is as follows: The deadline for filing supplemental party comments on Commerce's final determinations is April 23, 2018. The staff report in the final phase of these investigations will be placed in the nonpublic record and a public version will be issued thereafter. Supplemental party comments may address only Commerce's final determinations regarding imports of certain tool chests and cabinets from China and Vietnam. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: April 18, 2018.
Lisa Barton,
Secretary to the Commission.

[FR Doc. 2018-08397 Filed 4-20-18; 8:45 am]

BILLING CODE 7020-02-P